DEPARTMENT OF COMMERCE

International Trade Administration

[A-549-846]

Boltless Steel Shelving Units Prepackaged for Sale From Thailand: Preliminary Affirmative Determination of Sales at Less Than Fair Value and Amended Preliminary Determination of Sales at Less Than Fair Value; Correction

AGENCY: Enforcement and Compliance, International Trade Administration, Department of Commerce.

ACTION: Notice; correction.

SUMMARY: The U.S. Department of Commerce (Commerce) published notice in the Federal Register of November 29, 2023, in which Commerce made a preliminary affirmative determination of sales at less than fair value (LTFV) concerning boltless steel shelving units prepackaged for sale (boltless steel shelving) from Thailand. This notice included an incorrect table in the “Preliminary Determination of the Investigation” section. Commerce also published notice in the Federal Register of January 2, 2024, in which Commerce amended its preliminary determination of sales at LTFV concerning boltless steel shelving from Thailand. This notice included an incorrect table in the “Amended Preliminary Determination” section and contained incorrect language regarding the suspension of liquidation for Siam Metal Tech Co., Ltd. (Siam Metal).

FOR FURTHER INFORMATION CONTACT: Fred Baker, AD/CVD Operations, Office VI, Enforcement and Compliance, International Trade Administration, U.S. Department of Commerce, 1401 Constitution Avenue NW, Washington, DC 20230; telephone: (202) 482-6274.

SUPPLEMENTARY INFORMATION:

Correction

In the Federal Register of November 29, 2023, in FR Doc 2023-26230, on page 83390, in the third column, correct the cash deposit rates tables. The cash deposit rate application is on a “produced and/or exported by” basis and not on a chain rate basis. In addition, this correction applies to the Federal Register of January 2, 2024, in FR Doc 2023-28824, on page 62, in the third column. The cash deposit rate application to Bangkok Sheet Metal Public Co. is on a “produced and/or exported by” basis and not on a chain rate basis.

In the Federal Register of January 2, 2024, in FR Doc 2023-28824, on page 63, in the first column, correct the language to state:

“Because we are now making a negative determination of sales at LTFV for Siam Metal, we will instruct U.S. Customs and Border Protection (CBP) to discontinue the suspension of liquidation of entries of subject merchandise produced and exported by Siam Metal and to liquidate all suspended entries without regard to antidumping duties. However, entries of shipments of subject merchandise from this company in any other producer/exporter combination, or by third parties that sourced subject merchandise from the excluded producer/exporter combination, will be subject to suspension of liquidation at the all-others rate.”

Background

On November 29, 2023, Commerce published in the Federal Register the preliminary affirmative determination of sales at LTFV of boltless steel shelving from Thailand.¹ In this notice, we inadvertently included an incorrect cash deposit rate table. On January 2, 2024, Commerce published in the Federal Register the amended preliminary determination of sales at LTFV of boltless steel shelving from Thailand.² In this notice, we inadvertently included an incorrect cash deposit rate table, and incorrect language regarding the suspension of liquidation for Siam Metal.

¹ See Boltless Steel Shelving Units Prepackaged for Sale from Thailand: Preliminary Affirmative Determination of Sales at Less Than Fair Value, Postponement of Final Determination, and Extension of Provisional Measures, 88 FR 83389 (November 29, 2023).

² See Boltless Steel Shelving Units Prepackaged for Sale from Thailand: Amended Preliminary Determination of Sales at Less Than Fair Value, 89 FR 62 (January 2, 2024).

Notification to Interested Parties

This notice is issued and published in accordance with sections 733(f) and 777(i) of the Tariff Act of 1930, as amended, and 19 CFR 351.205(c).

Dated: January 17, 2024.
Abdelali Elouaradia,
Deputy Assistant Secretary for Enforcement and Compliance.

[FR Doc. 2024-01277 Filed 1-23-24; 8:45 am]

BILLING CODE 3510-DS-P